DEPARTMENT OF THE INTERIOR

National Indian Gaming Commission

2016 Preliminary Fee Rate and Fingerprint Fees

AGENCY: National Indian Gaming Commission, Interior.

ACTION: Notice.

SUMMARY: Notice is hereby given, pursuant to 25 CFR 514.2, that the National Indian Gaming Commission has adopted its 2016 preliminary annual fee rates of 0.00% for tier 1 and 0.062% (.00062) for tier 2. While the rate for tier 1 remains the same, tier 2 decreases from 0.065% to 0.062%. The tier 2 preliminary annual fee rate represents the lowest fee rate adopted by the Commission in the last five years. These rates shall apply to all assessable gross revenues from each gaming operation under the jurisdiction of the Commission. If a tribe has a certificate of self-regulation under 25 CFR part 518, the 2016 preliminary fee rate on Class II revenues shall be 0.031% (.00031) which is one-half of the annual fee rate. The preliminary fee rates being adopted here are effective March 1, 2016 and will remain in effect until new rates are adopted.

Pursuant to 25 CFR 514.16, the National Indian Gaming Commission has also adopted its fingerprint processing fees of $21 per card effective March 1, 2016.

FOR FURTHER INFORMATION CONTACT: Yvonne Lee, National Indian Gaming Commission, C/O Department of the Interior, 1849 C Street NW., Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission.

Pursuant to 25 CFR 514, the Commission must also review annually the costs involved in processing fingerprint cards and set a fee based on fees charged by the Federal Bureau of Investigation and costs incurred by the Commission. Commission costs include Commission personnel, supplies, equipment costs, and postage to submit the results to the requesting tribe. Based on that review, the Commission hereby sets the 2016 fingerprint processing fee at $21 per card effective March 1, 2016.

Dated: February 23, 2016.
Jonodev O. Chaudhuri,
Chairman.
Dated: February 23, 2016.
E. Sequoyah Simermeyer,
Associate Commissioner.

[FR Doc. 2016-04267 Filed 2-26-16; 8:45 am]

BILLING CODE 7565-01-P